DEPARTMENT OF TRANSPORTATION

Surface Transportation Board

[Docket No. FD 35972]

West Belt Railway LLC—Lease and Operation Exemption Including Interchange Commitment—Terminal Railroad Association of St. Louis

West Belt Railway LLC (WBRY), a noncarrier, has filed a verified notice of exemption under 49 CFR 1150.31 to lease from Terminal Railroad Association of St. Louis, and to operate, approximately 9.66 miles of rail line consisting of the following two segments: (1) The West Belt Industry Lead (WBIL), from milepost 1.07 at Adelaide Avenue to the end of the track at milepost 9.54; and (2) the Central Belt Industrial Lead, from the point of connection with the WBIL at milepost 9.54 to the end of the track, all located in the City of St. Louis, St. Louis County, Mo., pursuant to a Lease Agreement (Agreement) dated October 14, 2015.¹

¹ WBRY filed a confidential, complete version of the Agreement with its notice of exemption to be kept confidential by the Board under 49 CFR 1104.14(a) without need for the filing of an accompanying motion for protective order under 49 CFR 1104.14(b). In a letter filed on October 23, 2015, WBRY submits the correct list of shippers in the response to 49 CFR 1150.33(h)(iii) that was incorrectly shown in its verified notice of exemption filed on October 22, 2015.

This transaction is related to a concurrently filed verified notice of exemption in SteelRiver Infrastructure Fund North America LP; SteelRiver Devco Holdings; & SR Transportation Holdings—Continuance in Control Exemption—West Belt Railway LLC, Docket No. FD 35973, in which SteelRiver Infrastructure Fund North America LP, SteelRiver Devco Holdings LLC, and SR Transportation Holdings LLC seek Board approval to continue in control of WBRY under 49 CFR 1180.2(d)(2), upon WBRY's becoming a Class III rail carrier.

WBRY certifies that the proposed lease and operation involves a provision in the Agreement that may limit future interchange with a third party connecting carrier (interchange commitment). As required under 49 CFR 1150.43(h)(1), WBRY has disclosed in its verified notice that the subject Agreement contains an interchange commitment that affects the interchange point in Rock Island Junction in the City of St. Louis. In addition, WBRY has provided additional information regarding the interchange commitment.

WBRY also certifies that the projected annual revenues do not exceed those that would qualify it as a Class III rail carrier and would not exceed $5 million.

The proposed transaction may be consummated on November 21, 2015, the effective date of the exemption (30 days after the verified notice of exemption was filed). If the verified notice contains false or misleading information, the exemption is void ab initio. Petitions to revoke the exemption under 49 U.S.C. 10502(d) may be filed at any time. The filing of a petition to revoke will not automatically stay the effectiveness of the exemption. Petitions to stay must be filed by November 13, 2015 (at least seven days prior to the date the exemption becomes effective).

An original and 10 copies of all pleadings, referring to Docket No. FD 35972, must be filed with the Surface Transportation Board, 395 E Street SW., Washington, DC 20423-0001. In addition, a copy of each pleading must be served on applicant's representative, Thomas F. McFarland, Thomas F. McFarland, P.C., 208 South LaSalle Street, Suite 1890, Chicago, IL 60604.

Board decisions and notices are available on our Web site at WWW.STB.DOT.GOV.

Decided: November 3, 2015.
By the Board, Joseph H. Dettmar, Acting Director, Office of Proceedings.
Tia Delano,
Clearance Clerk.

[FR Doc. 2015-28334 Filed 11-5-15; 8:45 am]

BILLING CODE 4915-01-P